DEPARTMENT OF ENERGY

Federal Energy Regulatory Commission

[Project No. 2614-042]

City of Hamilton, Ohio and American Municipal Power, Inc.; Notice of Application Accepted for Filing and Soliciting Motions To Intervene and Protests

Take notice that the following hydroelectric application has been filed with the Commission and is available for public inspection.

a. Type of Application: New Major License.

b. Project No.: 2614-042.

c. Date Filed: February 21, 2024.

d. Applicant: City of Hamilton, Ohio (City of Hamilton) and American Municipal Power, Inc. (American Power).

e. Name of Project: Greenup Hydroelectric Project (Greenup Project).

f. Location: The Greenup Project is located at the U.S. Army Corps of Engineers' (Corps) Greenup Locks and Dam on the Ohio River near the Town of Franklin Furnace in Scioto County, Ohio and Greenup County, Kentucky. The project occupies 12.74 acres of federal land administered by the Corps.

g. Filed Pursuant to: Federal Power Act, 16 U.S.C. 791(a)—825(r).

h. Applicant Contact: Jeff Martin, City of Hamilton, Ohio, 9505 West Mary Ingles Highway (KY Route 8), Foster, KY 41043; (606) 747-6103; greenuplicensing@hamilton-oh.gov and John McGreevy, American Municipal Power, Inc., 1111 Schrock Road, Columbus, OH 43229; (614) 540-1111; greenuplicensing@hamilton-oh.gov.

i. FERC Contact: Twyla Cheatwood, Project Coordinator, Midwest Branch, Division of Hydropower Licensing; telephone at (202) 502-8066; email at Twyla.cheatwood@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Greenup Hydroelectric Project (P-2614-042).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The Greenup Project uses the Corps' existing Greenup Locks and Dam and consist of the following existing facilities: (1) a 125-foot-long, 145-foot-wide reinforced concrete intake channel with sloped bottom and vertical left and right bank concrete walls; (2) three 39-foot-wide intakes equipped with trashracks having a clear bar spacing of 5.9 inches; (3) a 145-foot-wide and 190-foot-long powerhouse consisting of a steel-plate enclosure with concrete filled bulkhead walls located on the east (right) end of the dam, with a combined capacity of 70.27 megawatts; (4) a 125-foot-long and 145-foot-wide reinforced concrete tailrace channel with sloped bottom and vertical left and right bank concrete walls; (5) a 10-foot-wide gravity dam between the left wall of the intake channel and gated spillway which acts as an uncontrolled spillway during open river (flood) conditions; and (6) a steel sheet pile wall that stabilizes the right (east) bank.

The Greenup Project currently operates in a run-of-release mode with releases made in accordance with the Operating Agreement between the licensees and the Corps. The project has an estimated average annual energy production of 263,596 megawatt-hours. City of Hamilton and American Power do not propose any new construction and propose to continue operating the project in a run-of-release mode.

m. A copy of the application can be viewed on the Commission's website at https://www.ferc.gov using the “eLibrary” link. Enter the docket number excluding the last three digits in the docket number field to access the document. For assistance, contact FERC Online Support.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and email address of the person protesting or intervening; and (4) otherwise comply with the requirements of 18 CFR 385.2001 through 385.2005. Agencies may obtain copies of the application directly from the applicant. A copy of any protest or motion to intervene must be served upon each representative of the applicant specified in the particular application.

Dated: January 21, 2025.
Debbie-Anne A. Reese,
Secretary.

[FR Doc. 2025-01768 Filed 1-27-25; 8:45 am]

BILLING CODE 6717-01-P